DEPARTMENT OF AGRICULTURE

Submission for OMB Review; Comment Request

March 3, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Animal Plant and Health Inspection Service

Title: 7 CFR Part 319—Importation of Fruits and Vegetables.

OMB Control Number: 0579-0136.

Summary of Collection: The Department of Agriculture is responsible for preventing plant diseases or insect pests from entering the United States. The Plant Protect Quarantine Act and the Federal Pest Act authorizes the Department and the Animal and Plant Health Inspection Service (APHIS) to carry out this mission. Implementing the laws is necessary to prevent injurious insect pest and plant diseases from entering the United States, a situation that could produce serious consequences for U.S. agriculture. Providing for the safe importation of these fruits and vegetables will necessitate the use of several information collection activities and forms, including an application for permit, phytosanitary certificate, certain marking requirements, trapping and survey procedures.

Need and Use of the Information: APHIS will collect information from permit applications to determine if the fruits meet the requirements for importation and also enables APHIS to evaluate potential risks associated with the proposed movement of these fruits and vegetables into the United States. The information is used to determine whether a permit can be issued, and also to develop risk-mitigating conditions for the movement.

Description of Respondents: Business or other for profit; individuals or households; not-for-profit institutions; farms; State, local or tribal government.

Number of Respondents: 822.

Frequency of Responses: Reporting: On occasion.

Total Burden Hours: 1,343.

Ruth Brown,
Departmental Information Collection Clearance Officer.

[FR Doc. 05-4539 Filed 3-8-05; 8:45 am]

BILLING CODE 3410-34-M